DEPARTMENT OF TRANSPORTATION

Federal Aviation Administration

Research, Engineering, and Development Advisory Committee (REDAC); Notice of Public Meeting

AGENCY: Federal Aviation Administration, Department of Transportation.

ACTION: Notice of public meeting.

SUMMARY: This notice announces a meeting of the Research, Engineering, and Development Advisory Committee (REDAC).

DATES: The meeting will be held on November 18, 2022, from 10 a.m.-12 Noon, EST. The meeting will be open to the public, except from 10 a.m. to 11:15 a.m. when a partially closed session will occur in order to conduct a review and discussion of the technical content contained within the FAA's Unmanned Aircraft System-Advanced Air Mobility Integration Research Plan. Requests for accommodations to a disability must be received by November 10, 2022. Individuals requesting to speak during the meeting must submit a written copy of their remarks to DOT by November 10, 2022. Requests to submit written materials to be reviewed during the meeting must be received no later than November 10, 2022.

ADDRESSES: The meeting will be held in a virtual setting. Virtual attendance information will be provided upon registration. A detailed agenda will be available on the REDAC internet website at http://www.faa.gov/go/redac at least one week before the meeting, along with copies of the meeting minutes after the meeting.

FOR FURTHER INFORMATION CONTACT: Chinita Roundtree-Coleman, REDAC PM/Lead, FAA/U.S. Department of Transportation, at chinita.roundtree-coleman@faa.gov or (609) 485-7149. Any committee-related request should be sent to the person listed in this section.

SUPPLEMENTARY INFORMATION:

I. Background

The Research, Engineering, and Development Advisory Committee was created under the Federal Advisory Committee Act (FACA), in accordance with Public Law 100-591 (1988) and Public Law 101-508 (1990) to provide advice and recommendations to the FAA Administrator in support of the Agency's Research and Development (R&D) portfolio.

II. Agenda

At the meeting, the agenda will cover the following topics:

• FAA's Unmanned Aircraft System-Advanced Air Mobility Integration Research Plan

• FAA Research and Development Strategies, Initiatives and Planning,

• Impacts of emerging technologies, new entrant vehicles, and dynamic operations within the National Airspace System.

III. Public Participation

The meeting will be open to the public, except from 10 a.m. to 11:15 a.m., when a partially closed session will occur in order to conduct a review and discussion of the technical content contained within the FAA's Unmanned Aircraft System-Advanced Air Mobility Integration Research Plan. The meeting will be partially closed to the public consistent with Exemption 4 of the Government in the Sunshine Act, 5 U.S.C. 552b(c)(4), which allows FAA to close a meeting if an open meeting would disclose trade secrets and commercial or financial information obtained from a person and privileged or confidential.

The U.S. Department of Transportation is committed to providing equal access to this meeting for all participants. If you need alternative formats or services because of a disability, such as sign language, interpretation, or other ancillary aids, please contact the person listed in the FOR FURTHER INFORMATION CONTACT section.

There will be 45 minutes allotted for oral comments from members of the public joining the meeting. To accommodate as many speakers as possible, the time for each commenter may be limited. Individuals wishing to reserve speaking time during the meeting must submit a request at the time of registration, as well as the name, address, and organizational affiliation of the proposed speaker. If the number of registrants requesting to make statements is greater than can be reasonably accommodated during the meeting, the FAA may conduct a lottery to determine the speakers. Speakers are requested to submit a written copy of their prepared remarks for inclusion in the meeting records and circulation to REDAC members before the deadline listed in the DATES section. All prepared remarks submitted on time will be accepted and considered as part of the meeting's record. Any member of the public may present a written statement to the committee at any time.

Issued in Washington, DC.
Chinita Roundtree-Coleman,
REDAC PM/Lead, Federal Aviation Administration.

[FR Doc. 2022-24156 Filed 11-4-22; 8:45 am]

BILLING CODE 4910-13-P